DEPARTMENT OF TRANSPORTATION

Federal Transit Administration

Announcement of Fiscal Year 2016 Low or No Emission Grant Program Project Selections

AGENCY: Federal Transit Administration

ACTION: Notice.

SUMMARY: The U.S. Department of Transportation's Federal Transit Administration (FTA) announces the selection of projects with Fiscal Year (FY) 2016 appropriations for the Low or No Emission Grant Program (Low-No Program), as authorized by the Fixing America's Surface Transportation Act (FAST) Act. The FAST Act authorized $55 million for competitive allocations in FY 2016. On March 29, 2016, FTA published a Notice of Funding Opportunity (NOFO) (81 FR 17553) announcing the availability of Federal funding for the Low-No Program. These program funds will provide financial assistance to states and eligible public agencies for the purchase or lease of low or no emission vehicles that use advanced technologies and for related equipment or facilities use for transit revenue operations.

FOR FURTHER INFORMATION CONTACT: Successful applicants should contact the appropriate FTA Regional Office for information regarding applying for the funds or program-specific information. A list of Regional Offices can be found at www.fta.dot.gov. Unsuccessful applicants may contact Tara Clark, Office of Program Management at (202) 366-2623, email: Tara.Clark@dot.gov, to arrange a proposal debriefing within 30 days of this announcement. A TDD is available at 1-800-877-8339 (TDD/FIRS).

SUPPLEMENTARY INFORMATION: In response to the NOFO, FTA received 101 proposals from 32 states requesting $446 million in Federal funds, indicating significant demand for funding for low or no emission capital projects. Project proposals were evaluated based on each applicant's responsiveness to the program evaluation criteria outlined in the NOFO.

FTA is funding 20 projects as shown in Table 1 for a total of $55 million. Recipients selected for competitive funding should work with their FTA Regional Office to finalize the grant application in FTA's Transit Award Management System (TrAMs) for the projects identified in the attached table to quickly obligate funds. Grant applications must include eligible activities applied for in the original project application. Funds must be used consistent with the competitive proposal and for the eligible capital purposes established in the NOFO and described in the FTA Circular 9030.1E.

In cases where the allocation amount is less than the proposer's total requested amount, recipients must fund the scalable project option as described in the application. If the award amount does not correspond to the scalable option, for example due to a cap on the award amount, the recipient should work with the Regional Office to reduce scope or scale of the project such that a complete phase or project is accomplished. Recipients are reminded that program requirements such as cost sharing or local match can be found in the NOFO. A discretionary project identification number has been assigned to each project for tracking purposes and must be used in the TrAMs application.

Selected projects are eligible to incur costs under pre-award authority no earlier than the date projects were publicly announced, July 26, 2016. Pre-award authority does not guarantee that project expenses incurred prior to the award of a grant will be eligible for reimbursement, as eligibility for reimbursement is contingent upon other requirements, such as planning and environmental requirements, having been met. For more about FTA's policy on pre-award authority, please see the FTA Fiscal Year 2016 Apportionments, Allocations, and Program Information and Interim Guidance found in 81 FR 7893 (February 16, 2016). Post-award reporting requirements include submission of the Federal Financial Report and Milestone progress reports in TrAMs as appropriate (see Grant Management Requirements FTA.C.5010.1D and Urbanized Area Formula Program: Program Guidance and Application Instructions C9030.1E). Recipients must comply with all applicable Federal statutes, regulations, executive orders, FTA circulars, and other Federal requirements in carrying out the project supported by the FTA grant. For selected projects that involve partnerships, the competitive selection process will be deemed to satisfy the requirement for a competitive procurement under 49 U.S.C. 5325(a). All other recipients must follow all third-party procurement guidance as described in FTA.C.4220.1F. Funds allocated in this announcement must be obligated in a grant by September 30, 2019.

Carolyn Flowers,
Acting Administrator.

TABLE 1—FY 16 Low or No Emission Project Selections
State | Recipient | Project ID | Project description | Allocation
CA | Central Contra Costa Transit Authority | D2016-LWNO-001 | County Connection Battery Electric Bus Project | $2,684,311
CA | Long Beach Public Transportation Company | D2016-LWNO-002 | LBT 30-foot Battery Electric Bus Project | 1,172,867
CA | Santa Clara Valley Transportation Authority (VTA) | D2016-LWNO-003 | VTA Battery-Electric Zero Emission Bus, Charging and maintenance Facility Project | 2,458,305
CA | Santa Cruz Metropolitan Transit District | D2016-LWNO-004 | Santa Cruz METRO Electric Bus Deployment | 3,810,348
CA | SunLine Transit Agency | D2016-LWNO-005 | SunLine Center of Excellence in Zero Emission Technology (Fuel Cell/Electric Bus Maintenance Facility) | 1,519,855
DE | Delaware Transit Corporation | D2016-LWNO-006 | Delaware Transit Corporation Deployment of Battery Electric Buses | 2,029,300
FL | Miami-Dade County | D2016-LWNO-007 | Miami-Dade Department of Transportation and Public Works Electric Bus Purchase for Bus Replacement Program | 2,357,143
IL | Chicago Transit Authority | D2016-LWNO-008 | Chicago Transit Authority (CTA) Electric Bus Program—Purchase Electric Buses and Charging Stations | 3,620,000
KY | Transit Authority of Lexington-Fayette Urban Co Govt | D2016-LWNO-009 | Lextran Zero-Emission Electric Bus Fleet Expansion Project | 683,400
LA | City of Shreveport | D2016-LWNO-010 | City of Shreveport Electric Bus Deployment Project | 3,905,377
MO | The City of Columbia | D2016-LWNO-011 | City of Columbia Zero Emission Bus Deployment Project | 1,712,300
NY | Capital District Transportation Authority | D2016-LWNO-012 | Expanding CDTA's Clean, Greener footprint Purchase Zero Emission Electric Buses and Associated Support Equipment | 767,500
OR | Lane Transit District | D2016-LWNO-013 | Lane Transit District Zero Emission Bus Project (LTD-ZEB) | 3,479,675
OR | Tri-County Metropolitan Transportation District of Oregon | D2016-LWNO-014 | TriMet Zero Emission Bus Project (TriMet-ZEB) | 3,405,750
SC | City of Clemson dba Clemson Area Transit | D2016-LWNO-015 | Clemson Area Transit Zero Emission Bus Project (CAT-ZEB Project) | 3,905,378
TX | Port Arthur Transit | D2016-LWNO-016 | Port Arthur Transit Zero Emission Bus Deployment | 3,905,377
UT | Utah Department of Transportation | D2016-LWNO-017 | Support Implementation of Zero Emission BRT Route to Better Serve the Park City Communities | 3,905,378
WA | City of Everett, Everett Tramsot | D2016-LWNO-018 | Replacement of Diesel Buses with No emission Electric Buses | 3,358,459
WA | Pierce County Public Transportation Benefit Area Corporation | D2016-LWNO-019 | Pierce Transit Electric Bus Deployment | 2,550,788
WA | The Chelan Douglas Public Transportation Benefit Area | D2016-LWNO-020 | Electrification of Link Transit's Urban Bus Fleet Using High Power On-Route Wireless Charging | 3,768,489
Total |  |  |  | 55,000,000

[FR Doc. 2016-21430 Filed 9-6-16; 8:45 am]

BILLING CODE P